DEPARTMENT OF AGRICULTURE

Commodity Credit Corporation

Public Hearing on Sugarcane State Allotments and Processor Allocations

AGENCY: Commodity Credit Corporation, USDA.

ACTION: Notice of public hearing.

SUMMARY: The Commodity Credit Corporation (CCC) will hold a public hearing to receive comments on establishing sugarcane State allotments and sugarcane processor allocations of those allotments for the 2003 crop.

DATES: The public hearing will be held August 25, 2003, in Room 107-A of the U.S. Department of Agriculture (USDA) Jamie L. Whitten Federal Building, 12th and Jefferson Drive, SW., Washington, DC. The hearing is scheduled from 9 a.m. to 1 p.m. Eastern Standard Time (EDT).

ADDRESSES: Barbara Fecso, Dairy and Sweeteners Analysis Group, Economic and Policy Analysis Staff, Farm Service Agency (FSA), USDA, 1400 Independence Avenue, SW., STOP 0516, Washington, DC 20250-0516; telephone (202) 720-4146; FAX (202) 690-1480; e-mail: barbara.fecso@usda.gov.

FOR FURTHER INFORMATION CONTACT: Barbara Fecso at (202) 720-4146.

SUPPLEMENTARY INFORMATION: Because the 2002 Farm Security and Rural Investment Act provides CCC wide discretion in establishing sugarcane State allotments and associated sugarcane processor allocations, CCC is required to conduct a hearing on this issue in August of each year, beginning with the 2003 crop, if requested by sugarcane growers by July 15, 2003 (7 CFR 1435.307(c)). Such a request was received June 13, 2003.

CCC will use this hearing to collect comments on any issues related to establishing sugarcane State allotments and sugarcane processor allocations of those allotments for the 2003 crop. After consideration of comments obtained at the hearing, a final determination on cane State allotments and processor allocations will be announced.

The public hearing will be held on Monday, August 25, 2003, in Room 107-A of the USDA Jamie L. Whitten Federal Building, 12th and Jefferson Drive, SW., Washington, DC. The hearing is scheduled from 9 p.m. to 1 p.m. Eastern Standard Time (EDT). Attendance is open to interested parties.

Anyone wishing to make an oral statement may do so, time permitting. Comments will be limited to 5 minutes. A signup sheet for oral statements will be available at the entrance of 107-A 1 hour before the hearing begins. Oral statements will be made in the order the requests are received. People wishing to make a written statement in lieu of an oral statement should send their statement to Barbara Fecso, Dairy and Sweeteners Analysis Group, Economic and Policy Analysis Staff, FSA, USDA, 1400 Independence Avenue, SW, STOP 0516, Washington, DC 20250-0516; e-mail: barbara.fecso@usda.gov. Statements must be received by close of business on August 24, 2003.

Persons with disabilities who require special accommodations to attend or participate in the hearing should contact Barbara Fecso.

Signed in Washington, DC on July 30, 2003.
James R. Little,
Executive Vice President, Commodity Credit Corporation.

[FR Doc. 03-20081 Filed 8-1-03; 4:43 pm]

BILLING CODE 3410-05-P